DEPARTMENT OF AGRICULTURE

Food and Nutrition Service

Agency Information Collection Activities: Proposed Collection; Comment Request—Information Collection for the Report of School Program Operations

AGENCY: Food and Nutrition Service, USDA.

ACTION: Notice.

SUMMARY: In accordance with the Paperwork Reduction Act of 1995, this notice invites the general public and other public agencies to comment on a proposed information collection. The proposed collection is an extension of a currently approved collection for the Report of School Programs Operations.

DATES: Written comments must be submitted by November 28, 2008.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to: Mrs. Lynn Rodgers-Kuperman, Chief, Program Analysis and Monitoring Branch, Child Nutrition Division, Food and Nutrition Service, U.S. Department of Agriculture, 3101 Park Center Drive, Room 638, Alexandria, Virginia 22302. Comments will also be accepted through the Federal eRulemaking Portal. Go to http://www.regulations.gov, and follow the online instructions for submitting comments electronically.

All written comment(s) will be open for public inspection at the office of the Food and Nutrition Service during regular business hours (8:30 a.m. to 5 p.m., Monday through Friday) at 3101 Park Center Drive, Room 640, Alexandria, Virginia 22302.

All responses to this notice will be summarized and included in the request for OMB approval, and will become a matter of public record.

FOR FURTHER INFORMATION CONTACT: Request for additional information should be directed to: Mrs. Lynn Rodgers-Kuperman at (703) 305-2590.

SUPPLEMENTARY INFORMATION:

Title: Report of School Programs Operations.

OMB Number: 0584-0002.

Expiration Date: March 31, 2009.

Type of Request: Extension of a currently approved collection.

Abstract: The National School Lunch Program, the School Breakfast Program, the Commodity Schools Program, and the Special Milk Program are authorized by the National School Lunch Act, 42 U.S.C. 1751, et seq., and the Child Nutrition Act of 1966, 42 U.S.C. 1771, et seq. Program implementing regulations are contained in 7 CFR parts 210, 215, and 220. In accordance with § 210.5(d)(1), § 215.11(c)(2), and § 220.13(b)(2), State agencies must submit to FNS a monthly report of program activity in order to receive Federal reimbursement for meals served to eligible participants.

Respondents: State agencies that administer the National School Lunch Program, the School Breakfast Program, the Commodity Schools Program, or the Special Milk Program.

Estimated Number of Respondents: 57.

Number of Responses per Respondent: The number of responses includes initial, revised and final reports submitted each month. The overall average is four submissions per State Agency per reporting month for a total of 48 per year.

Estimated Total Annual Responses: 2,736.

Estimated Time per Response: Public reporting burden for this collection of information is estimated to average 32 hours per respondent.

Estimated Total Annual Burden on Respondents: 87,552 hours.

Dated: September 18, 2008.
Roberto Salazar,
Administrator, Food and Nutrition Service.

[FR Doc. E8-22770 Filed 9-26-08; 8:45 am]

BILLING CODE 3410-30-P